DEPARTMENT OF TRANSPORTATION

Federal Aviation Administration

14 CFR Part 39

[Docket No. FAA-2023-1886; Project Identifier AD-2023-00429-T; Amendment 39-22841; AD 2024-18-07]

RIN 2120-AA64

Airworthiness Directives; The Boeing Company Airplanes

AGENCY: Federal Aviation Administration (FAA), DOT.

ACTION: Final rule.

SUMMARY: The FAA is superseding Airworthiness Directive (AD) 2009-01-02, which applied to certain Boeing Model 737-600, -700, -700C, -800, and -900 series airplanes. AD 2009-01-02 required an inspection of frames between body station (BS) 360 and BS 907 to determine if certain support brackets of the air conditioning (A/C) outlet extrusions are installed, inspections for cracking of the frames around the attachment holes of the subject brackets, and repair if necessary. AD 2009-01-02 also requires installing new, improved fittings for all support brackets of the A/C outlet extrusions between BS 360 and BS 907. This AD was prompted by numerous reports of multiple cracks in the frame around the attachment holes of the support bracket of the A/C outlet extrusion, and the determination that certain repairs might develop fatigue cracks that could result in the inability of the frame to sustain limit load and therefore must be inspected. This AD would continue to require the actions specified in AD 2009-01-02 and would also require repetitive inspections for cracking of certain repairs, and repair if necessary. The FAA is issuing this AD to address the unsafe condition on these products.

DATES: This AD is effective November 12, 2024.

The Director of the Federal Register approved the incorporation by reference of a certain publication listed in this AD as of November 12, 2024.

The Director of the Federal Register approved the incorporation by reference of a certain other publication listed in this AD as of February 27, 2009 (74 FR 4117, January 23, 2009).

ADDRESSES:

AD Docket: You may examine the AD docket at regulations.gov under Docket No. FAA-2023-1886; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For Boeing material identified in this AD, contact Boeing Commercial Airplanes, Attention: Contractual & Data Services (C&DS), 2600 Westminster Blvd., MC 110 SK57, Seal Beach, CA 90740-5600; telephone 562-797-1717; website myboeingfleet.com.

• You may view this material at the FAA, Airworthiness Products Section, Operational Safety Branch, 2200 South 216th St., Des Moines, WA. For information on the availability of this material at the FAA, call 206-231-3195. It is also available at regulations.gov under Docket No. FAA-2023-1886.

FOR FURTHER INFORMATION CONTACT: Owen F. Bley-Male, Aviation Safety Engineer, FAA, 2200 South 216th Street, Des Moines, WA 98198; phone: 206-231-3992; email: Owen.F.Bley-Male@faa.gov.

SUPPLEMENTARY INFORMATION:

Background

The FAA issued a notice of proposed rulemaking (NPRM) to amend 14 CFR part 39 to supersede AD 2009-01-02, Amendment 39-15780 (74 FR 4117, January 23, 2009) (AD 2009-01-02). AD 2009-01-02 applied to certain Boeing Model 737-600, -700, -700C, -800, and -900 series airplanes. The NPRM published in the Federal Register on September 25, 2023 (88 FR 65637). The NPRM was prompted by numerous reports of multiple cracks in the frame around the attachment holes of the support bracket of the A/C outlet extrusion and the determination that certain repairs might develop fatigue cracks that could result in the inability of the frame to sustain limit load and therefore must be inspected. In the NPRM, the FAA proposed to continue to require a one-time general visual inspection of frames between BS 360 and BS 907 to determine if certain support brackets of the A/C outlet extrusions are installed; medium- and high-frequency eddy current inspections for cracking of the frames around the attachment holes of the subject brackets; repair if necessary; and installation of new, improved fittings for all support brackets of the A/C outlet extrusions between BS 360 and BS 907. The NPRM also proposed to require repetitive inspections for cracking of certain repairs, and repair if necessary. The FAA is issuing this AD to prevent frame cracking, which, if not corrected, could lead to a severed frame that, combined with cracking of the chemically milled steps in the skin above the Stringer 10 lap splice, could result in rapid decompression of the airplane.

Discussion of Final Airworthiness Directive

Comments

The FAA received a comment from an individual who supported the NPRM without change.

The FAA received additional comments from Aviation Partners Boeing, The Boeing Company (Boeing), Southwest Airlines (SWA), United Airlines (UAL), and an individual. The following presents the comments received on the NPRM and the FAA's response to each comment.

Request To Determine Estimated Cost

An individual commented that the NPRM stated that there is no definitive data on which to estimate the labor cost (for the repairs), so the basis for this estimated cost is unclear. The commenter suggested an estimate using cost data for operations similar to those required by this AD, making estimates more robust.

The FAA cannot pre-determine on-condition actions before the inspections required by this AD are actually completed. The work-hours to complete repairs will be unique to each airplane. For the other actions required by this AD, the FAA used estimated costs that were provided by the design approval holder. No changes have been made to this AD in this regard.

Effect of Winglets on Accomplishment of the Proposed Actions

Aviation Partners Boeing stated that incorporation of Supplemental Type Certificate (STC) ST00830SE for installation of blended or split scimitar winglets does not affect the accomplishment of the manufacturer's service instructions.

The FAA agrees with the commenter that STC ST00830SE does not affect the accomplishment of the manufacturer's service instructions. Therefore, the installation of STC ST00830SE does not affect the ability to accomplish the actions required by this AD. The FAA has not changed this AD in this regard.

Request for Correction of the Skin Lap Splice Location

Boeing stated that the NPRM incorrectly identified the location of the skin lap splice. The NPRM referred to “cracking of the skin lap splice above stringer 10.” Boeing requested that language be corrected to “cracking of the chemically milled steps in the skin above Stringer 10 lap splice” to match the language in Boeing Alert Service Bulletin 737-25A1544, Revision 4, dated February 15, 2022.

The FAA agrees with the request and has revised the “Background” section of this final rule and the “Unsafe Condition” in paragraph (e) of this AD accordingly.

Request To Add a General Visual Inspection for Cracks

Boeing noted that Boeing Alert Service Bulletin 737-25A1544, Revision 4, dated February 15, 2022, requires a general visual inspection (GVI) to detect cracks, not just to determine if certain support brackets of the A/C outlet extrusions are installed at certain frames. Boeing requested that a GVI be required to also detect cracks.

The FAA agrees with the request. The inspections specified in Part 2 of Boeing Alert Service Bulletin 737-25A1544, Revision 4, dated February 15, 2022, include a GVI to detect cracks. The “Material Incorporated by Reference under 1 CFR part 51” section of this final rule and paragraph (g)(2) of this AD have been revised to include a GVI as an inspection method.

Request To Revise the Applicability Statement

Boeing stated that paragraph (c), “Applicability,” of the proposed AD incorrectly identified the referenced service information as Boeing “Special Attention” Service Bulletin 737-25A1544, Revision 4, dated February 15, 2022, and explained that Revision 4 of this service information is an “alert” service bulletin. The correct reference is Boeing Alert Service Bulletin 737-25A1544, Revision 4, dated February 15, 2022.

The FAA agrees and has revised paragraph (c) of this AD accordingly.

Request To Correct Special Attention Service Bulletin

Boeing stated that a certain Boeing special attention service bulletin is incorrectly identified under “Actions Since AD 2009-01-02 Was Issued” of the NPRM. Boeing pointed out that the NPRM incorrectly identified the service bulletin number as “737-25A1544.” The correct service bulletin number is “737-25-1544.”

The FAA partially agrees. The FAA agrees that the specified service bulletin number was stated incorrectly in the NPRM. However, since that section of the NPRM is not restated in this final rule, no change is necessary in this regard.

Request To Revise AMOC Provisions

SWA stated that paragraph (j) of the proposed AD requires inspection of repairs installed on the BS 907 frame at the compliance times given in Table 2 of Boeing Alert Service Bulletin 737-25A1544, Revision 4, dated February 15, 2022. SWA mentioned that Table 2 requires post-repair inspections for repairs that were installed per Boeing Special Attention Service Bulletin 737-25-1544, Revision 3, dated May 16, 2016; or Boeing Alert Service Bulletin 737-25A1544, Revision 4, dated February 15, 2022; and does not address repairs that were installed by any other means. SWA proposed revising paragraph (m)(4) of the proposed AD to extend alternative method of compliance (AMOC) approval to paragraph (j) of the proposed AD, provided the AMOC approval contains a damage tolerance evaluation. SWA believes that individually approved repairs that contain an AMOC to AD 2009-01-02, with a damage tolerance analysis as a Category A or Category B repair (as defined in Boeing SRM 51-00-06), provide an equivalent level of safety.

The FAA disagrees with the request. Only repairs installed per Boeing Special Attention Service Bulletin 737-25-1544, Revision 3, dated May 16, 2016; or Boeing Alert Service Bulletin 737-25A1544, Revision 4, dated February 15, 2022; are subject to the requirements of paragraph (j) of this AD. Repairs installed by any other means are not subject to the requirements of paragraph (j) of this AD, so the proposed AMOC to paragraph (j) would not be applicable. The FAA has not changed this AD in this regard.

Request To Clarify Airplanes Affected by New Requirements

UAL supported the NPRM, and requested clarification of the airplanes affected by paragraph (j) of the proposed AD. UAL stated that some airplanes had repairs to the STA 907 frame performed before release of Boeing Special Attention Service Bulletin 737-25-1544, Revision 3, dated May 16, 2016. UAL added that these repairs were coordinated with Boeing and received Form 8100-9 approvals as AMOCs to paragraph (g) of AD 2009-01-02 and are considered Category B damage tolerance repairs that also require additional inspections as defined in the 8100-9 approval. UAL stated that Table 2 of the “Compliance” paragraph of Boeing Alert Service Bulletin 737-25A1544, Revision 4, dated February 15, 2022 (as specified in paragraph (j) of the proposed AD), applies only to airplanes on which a frame repair has been done at STA 907 in accordance with Boeing Special Attention Service Bulletin 737-25-1544, Revision 3, dated May 16, 2016; or Boeing Alert Service Bulletin 737-25-1544, Revision 4, dated February 15, 2022. UAL therefore stated that Category B repairs via Form 8100-9 should be excluded from paragraph (j) of the proposed AD.

The FAA provides the following clarification. As stated previously, only repairs installed per Boeing Special Attention Service Bulletin 737-25-1544, Revision 3, dated May 16, 2016; or Boeing Alert Service Bulletin 747-25A1544, Revision 4, dated February 15, 2022; are subject to the requirements of paragraph (j) of this AD. Repairs installed by any other means are not subject to the requirements of paragraph (j) of this AD. Therefore, no change to this AD is necessary.

Conclusion

The FAA reviewed the relevant data, considered any comments received, and determined that air safety requires adopting this AD as proposed. Accordingly, the FAA is issuing this AD to address the unsafe condition on these products. Except for minor editorial changes, and any other changes described previously, this AD is adopted as proposed in the NPRM. None of the changes will increase the economic burden on any operator.

Material Incorporated by Reference Under 1 CFR Part 51

The FAA reviewed Boeing Alert Service Bulletin 737-25A1544, Revision 4, dated February 15, 2022. This material specifies procedures for a one-time general visual inspection of frames between BS 360 and BS 907 to determine if certain support brackets of the A/C outlet extrusions are installed; a general visual inspection and low-, medium-, and high-frequency eddy current inspections for cracking of the frames around the attachment holes of the subject brackets, and repair if necessary; and installation of new, improved fittings for all support brackets of the A/C outlet extrusions between BS 360 and BS 907. This material also specifies procedures for repetitive detailed and high-frequency eddy current inspections for cracking of certain repairs at BS 907 and repair if necessary.

This AD also requires Boeing Special Attention Service Bulletin 737-25-1544, Revision 1, dated January 16, 2008, which the Director of the Federal Register approved for incorporation by reference as of February 27, 2009 (74 FR 4117, January 23, 2009).

This material is reasonably available because the interested parties have access to it through their normal course of business or by the means identified in ADDRESSES.

Costs of Compliance

The FAA estimates that this AD affects 738 airplanes of U.S. registry. The FAA estimates the following costs to comply with this AD:

Estimated Costs
Action | Labor cost | Parts cost | Cost per product | Cost on U.S. operators
General visual inspection (retained actions from AD 2009-01-02) | 1 work-hour × $85 per hour = $85 | $0 | $85 | $62,730.
Eddy current inspections (retained actions from AD 2009-01-02) | Up to 216 work-hours × $85 per hour = Up to $18,360 | $0 | Up to $18,360 | Up to $13,549,680.
Replace support fittings (retained actions from AD 2009-01-02) | Up to 346 work-hours × $85 per hour = Up to $29,410 | Up to $28,789 | Up to $58,199 | Up to $42,950,862.
Post-repair inspections (new action) | 42 work-hours × $85 per hour = $3,570 per inspection cycle | $0 | $3,570 per inspection cycle | $2,634,660 per inspection cycle.

The FAA has received no definitive data on which to base the cost estimates for the on-condition repairs that would be required based on the results of the inspections specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2009-01-02, Amendment 39-15780 (74 FR 4117, January 23, 2009); and

b. Adding the following new AD:

2024-18-07 The Boeing Company: Amendment 39-22841; Docket No. FAA-2023-1886; Project Identifier AD-2023-00429-T.

(a) Effective Date

This airworthiness directive (AD) is effective November 12, 2024.

(b) Affected ADs

This AD replaces AD 2009-01-02, Amendment 39-15780 (74 FR 4117, January 23, 2009) (AD 2009-01-02).

(c) Applicability

This AD applies to Boeing Model 737-600, -700, -700C, -800, and -900 series airplanes, certificated in any category, as identified in Boeing Alert Service Bulletin 737-25A1544, Revision 4, dated February 15, 2022.

(d) Subject

Air Transport Association (ATA) of America Code 25, Equipment/Furnishing.

(e) Unsafe Condition

This AD was prompted by numerous reports of multiple cracks in the frame around the attachment holes of the support bracket of the air conditioning (A/C) outlet extrusion. Also, the FAA determined that certain repairs done to comply with AD 2009-01-02 might develop fatigue cracks that could result in the inability of the frame to sustain limit load and must be inspected. The FAA is issuing this AD to address frame cracking, which, if not corrected, could lead to a severed frame that, combined with cracking of the chemically milled steps in the skin above the Stringer 10 lap splice, could result in rapid decompression of the airplane.

(f) Compliance

Comply with this AD within the compliance times specified, unless already done.

(g) Retained Inspection, With New Material

This paragraph restates the requirements of paragraph (f) of AD 2009-01-02, with new material. Before the accumulation of 36,000 total flight cycles, or within 72 months after February 27, 2009 (the effective date of AD 2009-01-02), whichever occurs later, except as required by paragraph (i) of this AD: Do a general visual inspection to determine if the support brackets of the A/C outlet extrusions between body station (BS) 360 and BS 907 have two-rivet attachment fittings in accordance with Part 2 of the Accomplishment Instructions of Boeing Special Attention Service Bulletin 737-25-1544, Revision 1, dated January 16, 2008, or Boeing Alert Service Bulletin 737-25A1544, Revision 4, dated February 15, 2022; except at the locations identified in the notes of Step 3.B.1 of Part 1 of the Accomplishment Instructions of Boeing Special Attention Service Bulletin 737-25-1544, Revision 1, dated January 16, 2008, or Boeing Alert Service Bulletin 737-25A1544, Revision 4, dated February 15, 2022. As of the effective date of this AD, only use Boeing Alert Service Bulletin 737-25A1544, Revision 4, dated February 15, 2022, for the actions required by paragraph (g) of this AD.

(1) For any support bracket attached with three or more rivets: No further action is required by paragraph (g) of this AD.

(2) For any subject support bracket having a two-rivet attachment fitting: Before the accumulation of 36,000 total flight cycles, or within 72 months after February 27, 2009 (the effective date of AD 2009-01-02), whichever occurs later, except as required by paragraph (i) of this AD, do general visual, medium- and high-frequency eddy current inspections for cracking of the frame around the attachment holes of the support bracket, in accordance with Part 2 of the Accomplishment Instructions of Boeing Special Attention Service Bulletin 737-25-1544, Revision 1, dated January 16, 2008, or do general visual, low-, medium- and high-frequency eddy current inspections for cracking of the frame around the attachment holes of the support bracket, in accordance with Part 2 of the Accomplishment Instructions of Boeing Alert Service Bulletin 737-25A1544, Revision 4, dated February 15, 2022. If any cracking is discovered, before further flight, repair the cracking in accordance with Part 3 of the Accomplishment Instructions of Boeing Special Attention Service Bulletin 737-25-1544, Revision 1, dated January 16, 2008, or Boeing Alert Service Bulletin 737-25A1544, Revision 4, dated February 15, 2022, except as required by paragraph (k)(2) of this AD. As of the effective date of this AD, only use Boeing Alert Service Bulletin 737-25A1544, Revision 4, dated February 15, 2022, for the actions required by paragraph (g)(2) of this AD.

(h) Retained Modification, With New Material

This paragraph restates the requirements of paragraph (g) of AD 2009-01-02, with new material. Except as required by paragraph (i) of this AD: Before the accumulation of 36,000 total flight cycles, or within 72 months after February 27, 2009 (the effective date of AD 2009-01-02), whichever occurs later, replace the support fittings of all A/C outlet extrusions between BS 360 and BS 907 with new, improved support fittings, in accordance with Part 4 of the Accomplishment Instructions of Boeing Special Attention Service Bulletin 737-25-1544, Revision 1, dated January 16, 2008, or Boeing Alert Service Bulletin 737-25A1544, Revision 4, dated February 15, 2022. As of the effective date of this AD, only use Boeing Alert Service Bulletin 737-25A1544, Revision 4, dated February 15, 2022, for the actions required by paragraph (h) of this AD.

(i) Retained Compliance Time for Certain Airplanes, With No Changes

This paragraph restates the compliance time specified in paragraph (h) of AD 2009-01-02, with no changes. For airplanes on which Boeing Business Jet (BBJ) lower cabin altitude modification is incorporated in accordance with Supplemental Type Certificate (STC) ST01697SE (6,500 feet maximum cabin altitude in lieu of 8,000 feet): Before the accumulation of 18,000 total flight cycles, or within 72 months after February 27, 2009 (the effective date of AD 2009-01-02), whichever occurs later, do the actions specified in paragraphs (g) and (h) of this AD.

(j) New Requirements of This AD

For Groups 1 through 4 and Group 6 as identified in Boeing Alert Service Bulletin 737-25A1544, Revision 4, dated February 15, 2022: Except as specified in paragraph (k) of this AD: At the applicable time specified in Table 2 of the “Compliance” paragraph of Boeing Alert Service Bulletin 737-25A1544, Revision 4, dated February 15, 2022, do a detailed inspection and a high-frequency eddy current inspection for cracking of the repaired area at frame BS 907, and do all applicable repairs before further flight, in accordance with the Accomplishment Instructions of Boeing Alert Service Bulletin 737-25A1544, Revision 4, dated February 15, 2022. Repeat the inspections thereafter at the applicable time specified in Table 2 of the “Compliance” paragraph of Boeing Alert Service Bulletin 737-25A1544, Revision 4, dated February 15, 2022.

(k) Exceptions to Service Bulletin Specifications

(1) Where the Compliance Time column of Table 2 in the “Compliance” paragraph of Boeing Alert Service Bulletin 737-25A1544, Revision 4, dated February 15, 2022, uses the phrase “the Revision 4 date of this Service Bulletin,” this AD requires using “the effective date of this AD.”

(2) Where Boeing Alert Service Bulletin 737-25A1544, Revision 4, dated February 15, 2022, specifies contacting Boeing, this AD requires repair before further flight using a method approved in accordance with the procedures specified in paragraph (m) of this AD.

(3) For airplanes on which BBJ Lower Cabin Altitude STC ST01697SE (drs.faa.gov/browse/excelExternalWindow/0812969A86AF879B8625766400600105.0001) has been incorporated, the flight-cycle related compliance times for the inspections required by paragraph (j) of this AD are different from those specified in Table 2 of the “Compliance” paragraph in Boeing Alert Service Bulletin 737-25A1544, Revision 4, dated February 15, 2022. All initial compliance times specified in total flight cycles or flight cycles must be reduced to half of those specified in Table 2 of the “Compliance” paragraph in Boeing Alert Service Bulletin 737-25A1544, Revision 4, dated February 15, 2022. All repetitive interval compliance times specified in flight cycles must be reduced to one-quarter of those specified in Table 2 of the “Compliance” paragraph in Boeing Alert Service Bulletin 737-25A1544, Revision 4, dated February 15, 2022.

(l) Credit for Previous Actions

(1) This paragraph provides credit for the actions specified in paragraphs (g) and (h) of this AD, if those actions were performed before February 27, 2009 (the effective date of AD 2009-01-02), using Boeing Special Attention Service Bulletin 737-25-1544, dated October 4, 2006.

(2) This paragraph provides credit for the actions specified in paragraphs (g) and (h) of this AD, if those actions were performed before the effective date of this AD using Boeing Special Attention Service Bulletin 737-25-1544, Revision 2, dated March 23, 2011; or Boeing Special Attention Service Bulletin 737-25-1544, Revision 3, dated May 16, 2016.

(m) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of AIR-520, Continued Operational Safety Branch, send it to the attention of the person identified in paragraph (n)(1) of this AD. Information may be emailed to: AMOC@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(4) AMOCs approved for AD 2009-01-02 are approved as AMOCs for the corresponding provisions of this AD.

(n) Related Information

(1) For more information about this AD, contact Owen F. Bley-Male, Aviation Safety Engineer, FAA, 2200 South 216th Street, Des Moines, WA 98198; phone: 206-231-3992; email: Owen.F.Bley-Male@faa.gov.

(2) Material identified in this AD that is not incorporated by reference is available at the address specified in paragraph (o)(5) of this AD.

(o) Material Incorporated by Reference

(1) The Director of the Federal Register approved the incorporation by reference (IBR) of the material listed in this paragraph under 5 U.S.C. 552(a) and 1 CFR part 51.

(2) You must use this material as applicable to do the actions required by this AD, unless this AD specifies otherwise.

(3) The following material was approved for IBR on November 12, 2024.

(i) Boeing Alert Service Bulletin 737-25A1544, Revision 4, dated February 15, 2022.

(ii) [Reserved]

(4) The following material was approved for IBR on February 27, 2009 (74 FR 4117, January 23, 2009).

(i) Boeing Special Attention Service Bulletin 737-25-1544, Revision 1, dated January 16, 2008.

(ii) [Reserved]

(5) For Boeing material identified in this AD, contact Boeing Commercial Airplanes, Attention: Contractual & Data Services (C&DS), 2600 Westminster Blvd., MC 110-SK57, Seal Beach, CA 90740-5600; telephone 562-797-1717; website myboeingfleet.com.

(6) You may view this material at the FAA, Airworthiness Products Section, Operational Safety Branch, 2200 South 216th St., Des Moines, WA. For information on the availability of this material at the FAA, call 206-231-3195.

(7) You may view this material at the National Archives and Records Administration (NARA). For information on the availability of this material at NARA, visit www.archives.gov/federal-register/cfr/ibr-locations or email fr.inspection@nara.gov.

Issued on September 6, 2024.
Peter A. White,
Deputy Director, Integrated Certificate Management Division, Aircraft Certification Service.

[FR Doc. 2024-23116 Filed 10-7-24; 8:45 am]

BILLING CODE 4910-13-P